Proclamation 10451 of September 16, 2022

National Historically Black Colleges and Universities Week, 2022

By the President of the United States of America

A Proclamation

Historically Black Colleges and Universities (HBCUs) help prepare their students to excel in every profession, and they foster transformative movements for greater justice and equality in our democracy. During National Historically Black Colleges and Universities Week, we celebrate HBCUs for their longstanding legacy of molding trailblazers, visionaries, and public servants; for enabling students to make immense contributions to this country as Black professionals and tradespeople; and for bringing us closer to the promise of an America for all Americans.

HBCUs have produced 40 percent of all Black engineers and 50 percent of all Black lawyers in America. Seventy percent of Black doctors in our country attended an HBCU, and 80 percent of Black judges are alumni of these schools. From the Fisk Jubilee Singers who performed for Queen Victoria to the female mathematicians who offered critical intelligence to NASA's first human space flights, to the brilliant legal scholars who helped dismantle structural segregation, and so many of the giants of the Civil Rights movement who dedicated their lives to lifting up the rights and dignity of all Americans, HBCUs have empowered graduates to form America's cultural identity, write our national story, and safeguard this country's most fundamental values. Our historic Vice President Kamala Harris is a HBCU graduate, as well as Michael Regan, Administrator of the Environmental Protection Agency.

My Administration is helping HBCUs weather the pandemic and make tuition more affordable for their students to continue this legacy of excellence and inclusion. Since taking office, we have invested a historic $5.8 billion to support staffing, teaching, and campus operations at these institutions. This includes providing HBCU students with emergency financial aid during the pandemic and forgiving over $1.6 billion in debt held by nearly half of all HBCUs to help them finance infrastructure improvement projects. This summer, I announced debt relief of up to $20,000 for low- and middle-income borrowers with Federal student loans, easing the burden of student loan debt for so many HBCU students and alumni. Students also have more financial resources because my Administration increased the maximum Pell Grant by $400 to $6,895—the largest increase in over a decade—helping 75 percent of students enrolled in HBCUs pay for their education. Additionally, I reestablished the President's Board of Advisors on HBCUs to bridge relationships between these schools and the private sector, and we launched a White House initiative to help HBCUs secure additional Federal funding. Further, I am proposing a historic investment to create and expand HBCU programs in fields like cybersecurity, engineering, and health care.

This is only the start of my Administration's campaign to empower HBCUs and expand their capacity to make even greater contributions to our society. This week and every week, we celebrate HBCUs for helping to make this country stronger and more inclusive, and we continue to champion and reinforce the ongoing achievements of these institutions—because we know that when they succeed, America succeeds.

NOW, THEREFORE, I, JOSEPH R. BIDEN JR., President of the United States of America, by virtue of the authority vested in me by the Constitution and the laws of the United States, do hereby proclaim September 18 through September 24, 2022, as National Historically Black Colleges and Universities Week. I call upon educators, public officials, professional organizations, corporations, and all Americans to observe this week with appropriate programs, ceremonies, and activities that acknowledge the countless contributions these institutions and their alumni have made to our country.

IN WITNESS WHEREOF, I have hereunto set my hand this sixteenth day of September, in the year of our Lord two thousand twenty-two, and of the Independence of the United States of America the two hundred and forty-seventh.

[FR Doc. 2022-20581

Filed 9-20-22; 8:45 am]

Billing code 3395-F2-P